FEDERAL COMMUNICATIONS COMMISSION

47 CFR Part 11

[EB Docket No. 04-296; DA 10-500]

Public Safety and Homeland Security Bureau Seeks Informal Comment Regarding Revisions to the Federal Communication Commission's Rules Governing the Emergency Alert System Pending Adoption of the Common Alerting Protocol by the Federal Emergency Management Agency

AGENCY: Federal Communications Commission.

ACTION: Request for comments.

SUMMARY: In this document, the Federal Communication Commission's (Commission) Public Safety and Homeland Security Bureau (PSHSB) seeks informal comment regarding what, if any, changes to the Commission's rules governing the Emergency Alert System (EAS) might be necessitated by the introduction of the Common Alerting Protocol (CAP), as well as the Federal Emergency Management Agency's (FEMA) deployment of its Integrated Public Alert and Warning System (IPAWS).

DATES: Comments are due on or before May 17, 2010 and reply comments are due on or before June 14, 2010.

ADDRESSES: You may submit comments, identified by EB Docket No. 04-296 by any of the following methods:

• Federal eRulemaking Portal: http://www.regulations.gov. Follow the instructions for submitting comments.

• Federal Communications Commission's Web site: http://www.fcc.gov/cgb/ecfs/. Follow the instructions for submitting comments.

• Mail: Filings can be sent by hand or messenger delivery, by commercial overnight courier, or by first-class or overnight U.S. Postal Service mail (although the Commission continues to experience delays in receiving U.S. Postal Service mail). All filings must be addressed to the Commission's Secretary, Office of the Secretary, Federal Communications Commission.

• People With Disabilities: Contact the Commission to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

Commercial overnight mail (other than U.S. Postal Service Express Mail and Priority Mail) must be sent to 9300 East Hampton Drive, Capitol Heights, MD 20743.

U.S. Postal Service first-class, Express, and Priority mail should be addressed to 445 12th Street, SW., Washington, DC 20554.

To request materials in accessible formats for people with disabilities (Braille, large print, electronic files, audio format), send an e-mail to fcc504@fcc.gov or call the Consumer & Governmental Affairs Bureau at 202-418-0530 (voice), 202-418-0432 (TTY).

FOR FURTHER INFORMATION CONTACT: Gregory M. Cooke, Associate Chief, Policy Division, Public Safety and Homeland Security Bureau, at (202) 418-2351, or by e-mail at gregory.cooke@fcc.gov.

SUPPLEMENTARY INFORMATION: This is a summary of the Federal Communication Commission's Public Notice in EB Docket No. 04-296, DA 10-500, released on March 25, 2010. This document is available to the public at http://hraunfoss.fcc.gov/edocs_public/attachmatch/DA-10-500A1.doc.

Synopsis of the Public Notice

1. CAP is an open, interoperable, data interchange format for collecting and distributing all-hazard safety notifications and emergency warnings to multiple information networks, public safety alerting systems, and personal communications devices. In conjunction with appropriate alert transmission architectures, CAP will allow FEMA, the National Weather Service (NWS), a State Governor, or any other authorized initiator of a public alert and warning to automatically format and geo-target a particular alert simultaneously to the public over multiple media platforms such as television radio, cable, cell phones and electronic highway signs. CAP will also allow an alert initiator to send alerts specifically formatted for people with disabilities and for non-English speakers.

2. The Commission, in its Emergency Alert System (EAS) Second Report and Order and Further Notice of Proposed Rulemaking (Second Report and Order), FCC No. 07-109 (adopted May 31, 2007; released July 12, 2007) mandated that all EAS Participants must accept CAP-based EAS alerts 180 days after the date on which FEMA publishes the applicable technical standards for its adoption of CAP as the basis for FEMA-generated alerts. On July 30, 2008, FEMA announced its intention to adopt a version of CAP, and more recently announced that this adoption may occur as early as the third quarter of 2010. Such action would trigger the Commission's 180 day requirement.

3. The Commission's EAS rules, 47 CFR part 11, were not written to accommodate a CAP-based EAS and will likely require significant revision or replacement once CAP is adopted and implemented, even if CAP-formatted messages continue to be utilized in connection with the alert transmission architectures of the current or “legacy” EAS. In advance of any rulemaking that may need to be conducted by the Commission once FEMA announces its adoption of standards for CAP, PSHSB seeks informal comment regarding what, if any, part 11 changes might be necessitated by the introduction of CAP. PSHSB asks commenters to identify, with specificity, those rules that need to be modified or deleted, and to suggest new rules for Part 11—or a new rules framework to replace part 11 rules. Accordingly, commenters should feel free to address the entirety of part 11 rules in this regard. For example, commenters may address rules for a CAP-based EAS system architecture, equipment requirements, organization, operations, testing, and access for people with disabilities and non-English speakers. PSHSB also asks commenters to consider the degree to which the Commission can implement flexibility into any new rules adopted for part 11, such that future versions of CAP can be accommodated without further rule changes.

4. Further, FEMA's adoption of CAP anticipates FEMA´s deployment of IPAWS, which will combine new and innovative technologies and distribution systems with greater redundancy and resiliency for the delivery of emergency alerts. In its EAS Second Report and Order, the Commission requires EAS Participants to configure their networks to receive CAP-formatted alerts delivered via any new delivery systems, whether wireline, internet, satellite, or other, within 180 days after the date that FEMA announces the technical standards for the Next Generation EAS. However, the Commission's rules presently also do not address such alert distribution methods.

5. Accordingly, PSHSB also takes this opportunity to ask commenters to identify specific rule changes or additions that they foresee could advance or facilitate introduction of a CAP-based Next Generation EAS architecture. In this regard, PSHSB seeks comment on the extent to which states already are adopting CAP-based systems for distribution of state and local EAS alerts, and the extent to which any revisions to Part 11 can be adopted in manner consistent with those systems. Again, PSHSB urges commenters to consider the degree to which the Commission can and should implement flexibility into its new rules, in order to accommodate future changes to EAS delivery systems without necessitating repeated revisions to Part 11. What factors should the Commission weigh in determining whether and-or when to implement future rule changes? Should the structure and content of state EAS Plans covered by § 11.21 of the EAS rules be altered to accommodate CAP and, if so, how?

6. Finally, PSHSB seeks comment on what rules changes, if any, are necessary to our Part 11 rules to ensure access to a CAP-based EAS by people with disabilities and those who do not speak English. We seek comment on how states that have adopted CAP currently address this issue. We also seek comment on the status of any initiatives or programs developed by, as well as any ongoing discussions among, interested stakeholders to address these issues.

Procedural Matters

A. Ex Parte Presentations

7. This matter shall be treated as a “permit-but-disclose” proceeding in accordance with the Commission's ex parte rules. Persons making oral ex parte presentations are reminded that memoranda summarizing the presentations must contain summaries of the substance of the presentations and not merely a listing of the subjects discussed. More than a one or two sentence description of the views and arguments presented is generally required. Other requirements pertaining to oral and written presentations are set forth in § 1.1206(b) of the Commission's rules.

B. Comment Filing Procedures

8. Pursuant to §§ 1.415 and 1.419 of the Commission's rules, 47 CFR 1.415, 1.419, interested parties may file comments and reply comments on or before the dates indicated on the first page of this document. All filings related to this Notice of Proposed Rulemaking should refer to EB Docket No. 04-296. Comments may be filed using: (1) The Commission's Electronic Comment Filing System (ECFS), (2) the Federal Government's eRulemaking Portal, or (3) by filing paper copies. See Electronic Filing of Documents in Rulemaking Proceedings, 63 FR 24121, May 1, 1998.

9. Electronic Filers: Comments may be filed electronically using the Internet by accessing the ECFS: http://www.fcc.gov/cgb/ecfs/ or the Federal eRulemaking Portal: http://www.regulations.gov. Filers should follow the instructions provided on the Web site for submitting comments.

10. For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

11. Paper Filers: Parties who choose to file by paper must file an original and four copies of each filing. If more than one docket or rulemaking number appears in the caption of this proceeding, filers must submit two additional copies for each additional docket or rulemaking number.

12. Filings can be sent by hand or messenger delivery, by commercial overnight courier, or by first-class or overnight U.S. Postal Service mail (although we continue to experience delays in receiving U.S. Postal Service mail). All filings must be addressed to the Commission's Secretary, Office of the Secretary, Federal Communications Commission.

13. Effective December 28, 2009, all hand-delivered or messenger-delivered paper filings for the Commission's Secretary must be delivered to FCC Headquarters at 445 12th St., SW., Room TW-A325, Washington, DC 20554. The filing hours at this location are 8 a.m. to 7 p.m. All hand deliveries must be held together with rubber bands or fasteners. Any envelopes must be disposed of before entering the building. Please Note: The Commission's former filing location at 236 Massachusetts Avenue, NE., is permanently closed.

Federal Communications Commission.
David L. Furth,
Deputy Bureau Chief, Public Safety and Homeland Security Bureau.

[FR Doc. 2010-8636 Filed 4-14-10; 8:45 am]

BILLING CODE 6712-01-P